DEPARTMENT OF THE INTERIOR

National Park Service

[NPS-WASO-NAGPRA-NPS0027391; PPWOCRADN0-PCU00RP14.R50000]

Notice of Intent To Repatriate Cultural Items: Fowler Museum at University of California Los Angeles, Los Angeles, CA

AGENCY: National Park Service, Interior.

ACTION: Notice.

SUMMARY: The Fowler Museum at University of California Los Angeles (UCLA) in consultation with the appropriate Indian Tribes or Native Hawaiian organizations, has determined that the cultural items listed in this notice meet the definition of unassociated funerary objects. Lineal descendants or representatives of any Indian Tribe or Native Hawaiian organization not identified in this notice that wish to claim these cultural items should submit a written request to the Fowler Museum at UCLA. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Fowler Museum at UCLA at the address in this notice by April 29, 2019.

ADDRESSES: Wendy G. Teeter, Ph.D., Fowler Museum at UCLA, Box 951549, Los Angeles, CA 90095-1549, telephone (310) 825-1864, email wteeter@arts.ucla.edu.

SUPPLEMENTARY INFORMATION: Notice is here given in accordance with the Native American Graves Protection and Repatriation Act (NAGPRA), 25 U.S.C. 3005, of the intent to repatriate cultural items under the control of the Fowler Museum at UCLA, Los Angeles, CA that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1990 and 1991, 631 cultural items were removed from Mar Lado I (CA-SDI-5130, CA-SDI-5133H, and CA-SDI-6014), in San Luis Rey, San Diego County, CA. Excavations as part of the San Luis Rey River Flood Control Project were conducted by INFOTEC Research, Inc. under a permit from the Army Corps of Engineers (COE). The primary site, SDI-5130, dates to La Jollan or Millingstone times. A subdivision of the site, SDI-5133H, contains a historic component dating to A.D. 1870-1890. No cultural items from two other subdivisions, SDI-6014 and SDI-6015, are included in this notice. As COE decided that the archeological materials from Mar Lado I were not under its control, the collections were received by the Fowler Museum in May 1991.

Documentation indicates that 189 funerary objects were collected from two of four burials located during excavations at the primary site (SDI-5130)—Burial 2 (located in 1990) and Burial 5 (located in 1991). The human remains from Burial 2/Feature 103 were reburied in situ. The 13 funerary objects from Burial 2/Feature 103 include one core, six stone flakes, four pieces of faunal bone, one metate, and one metate fragment. The human remains from Burial 5/Feature 114 were removed by Rose Tyson (San Diego Museum of Man) for analysis on May 23, 1991 and were not accessioned at UCLA. [Note: these human remains may, in fact, have been part of Burial 2/Feature 103, which was very disturbed.] The 176 funerary objects from Burial 5/Feature 114 include 92 pieces of debitage, eight stone tools, 73 animal bone fragments, two shell beads, and one shell bead blank.

Documentation indicates that 442 funerary objects were collected from Burial 3/Feature 2 during excavation in 1990 at CA-SDI-5133H, the historic component within the boundaries of SDI-5130. The human remains from Burial 3/Feature 2 were left in situ (per UCLA's documentation, these human remains are “with Rose Tyson”). The 442 funerary objects include 435 pieces of animal bone, one ceramic sherd, and six ceramic plate fragments.

Determinations Made by the Fowler Museum at University of California Los Angeles

Officials of the Fowler Museum at University of California Los Angeles have determined that:

• Pursuant to 25 U.S.C. 3001(3)(B), the 631 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the La Jolla Band of Luiseno Indians, California (previously listed as the La Jolla Band of Luiseno Mission Indians of the La Jolla Reservation); Pala Band of Mission Indians (previously listed as the Pala Band of Luiseno Mission Indians of the Pala Reservation, California); Pauma Band of Luiseno Mission Indians of the Pauma & Yuima Reservation, California; Pechanga Band of Luiseno Mission Indians of the Pechanga Reservation, California; Rincon Band of Luiseno Mission Indians of the Rincon Reservation, California; and the Soboba Band of Luiseno Indians, California, hereafter referred to as “The Tribes.”

Additional Requestors and Disposition

Lineal descendants or representatives of any Indian tribe or Native Hawaiian organization not identified in this notice that wish to claim these cultural items should submit a written request with information in support of the claim to Wendy G. Teeter, Ph.D., Fowler Museum at UCLA, Box 951549, Los Angeles, CA 90095-1549, telephone (310) 825-1864, email wteeter@arts.ucla.edu, by April 29, 2019. After that date, if no additional claimants have come forward, transfer of control of the unassociated funerary objects to The Tribes may proceed.

The Fowler Museum at University of California Los Angeles is responsible for notifying The Tribes that this notice has been published.

Dated: February 25, 2019.
Melanie O'Brien,
Manager, National NAGPRA Program.

[FR Doc. 2019-06001 Filed 3-27-19; 8:45 am]

BILLING CODE 4312-52-P